DEPARTMENT OF THE TREASURY

Privacy Act of 1974; Systems of Records

AGENCY: Departmental Offices, Treasury.

ACTION: Notice of alterations to eight Treasury-wide Privacy Act Systems of Records.

SUMMARY: In accordance with the Privacy Act of 1974, the Department of the Treasury (Treasury), gives notice of proposed alterations to existing Treasury-wide systems of records. The systems of records were last published in their entirety on February 19, 2002, beginning at 67 FR 7460.

EFFECTIVE DATE: September 24, 2002.

FOR FURTHER INFORMATION CONTACT: Dale Underwood, Deputy Chief, Disclosure Services, (202) 622-0930.

SUPPLEMENTARY INFORMATION: Prior to October 26, 2001, the date of enactment of the Uniting and Strengthening America by Providing Appropriate Tools Required to Intercept and Obstruct Terrorism (USA PATRIOT ACT) Act of 2001 (the “USA Patriot Act”), Pub. L. 107-56, the Financial Crimes Enforcement Network (FinCEN) was a component of the Departmental Offices of the Department of the Treasury. Section 361 of the USA Patriot Act created a new Section 310 in Subchapter I of Chapter 3 of Title 31, United States Code, which established FinCEN as a Treasury bureau.

This document revises eight Treasury-wide notices to reflect FinCEN's new status as a new bureau of the Department.

In addition, the Bureau of the Public Debt has moved its Freedom of Information Act and Privacy Act function to its location in Parkersburg, West Virginia. Treasury .004-Freedom of Information/Privacy Act Request Records is being revised to reflect this change in the location of the system and system manager.

Because the described alterations are not considered significant, the reporting requirements of subsection (r) of the Privacy Act of 1974 do not apply. The proposed alterations to the Treasury systems of records are set forth below.

Dated: September 16, 2002.
W. Earl Wright, Jr.,
Chief Management and Administrative Programs Officer.

Treasury .002

System name:

Grievance Records.

System location:

* * * * *

(13) Financial Crimes Enforcement Network (FinCEN), P.O. Box 39, Vienna, VA 22183-0039.

* * * * *

System manager(s) and address: *****

(13) FinCEN: Director, P.O. Box 39, Vienna, VA 22183-0039.

* * * * *

Treasury .004

System name:

Freedom of Information Act/Privacy Act Request Records.

Description of change: Remove current entry and add the following to read as follows:

System location:

Disclosure Services, Department of the Treasury, 1500 Pennsylvania Avenue NW., Washington, DC 20220. Other locations at which the system is maintained by Treasury bureaus and their associated offices are:

(1) Departmental Offices (DO):

a. The Office of Inspector General (OIG): 740 15th Street, NW., Washington, DC 20220.

b. Treasury Inspector General for Tax Administration (TIGTA): 1111 Constitution Ave., NW., Washington, DC 20224.

(2) Bureau of Alcohol, Tobacco and Firearms (ATF): 650 Massachusetts Avenue, NW., Washington, DC 20226.

(3) Office of the Comptroller of the Currency (OCC): 250 E Street, SW., Washington, DC 20219-0001.

(4) United States Customs Service (CUSTOMS): 1300 Pennsylvania Avenue, NW., Washington DC 20229

(5) Bureau of Engraving and Printing (BEP): 14th & C Streets, SW., Washington, DC 20228.

(6) Federal Law Enforcement Training Center (FLETC): Glynco, Ga. 31524.

(7) Financial Management Service (FMS): 401 14th Street, SW., Washington, DC 20227.

(8) United States Mint (MINT): 801 9th Street, NW., Washington, DC 20220.

(9) Bureau of the Public Debt (BPD): 200 Third Street, Parkersburg, WV 26101.

(10) (USSS): FOIA/PA Office, FOIA/PA Branch, 950 H Street, NW., Suite 3000, Washington, DC 20001.

(11) Office of Thrift Supervision (OTS): 1700 G Street, NW., Washington, DC 20552.

(12) Financial Crimes Enforcement Network (FinCEN), Vienna, VA 22182.

* * * * *

Description of change: Remove current entry and add the following to read as follows:

System manager(s) and address:

1. (a) DO: Chief, Disclosure Services, Department of the Treasury, Washington, DC 20220.

(b) OIG: 740 15th Street, NW., Washington, DC 20220.

(c) TIGTA: Supervisory Analyst, 1111 Constitution Ave., NW., IC:CC, Room 3039, Washington, DC 20224.

2. ATF: Assistant Director, Liaison and Public Information, 650 Massachusetts Avenue, NW., Washington, DC 20226.

3. BEP: Disclosure Officer, FOIA Office, 14th & C Streets, SW., Washington, DC 20228.

4. FLETC: FOIA/PA Officer, Department of the Treasury, Building 94, Glynco, GA 31524.

5. FMS: Disclosure Officer, 401 14th Street, SW., Washington, DC 20227.

6. Mint: Disclosure Officer, Judiciary Square Building, 801 9th Street, NW., Washington, DC 20220.

7. OCC: Disclosure Officer, Communications Division, Washington, DC 20219.

8. Customs: Chief, Disclosure Law Branch, Office of Regulations and Rulings, 1300 Pennsylvania Avenue, NW., Washington, DC 20229.

9. BPD: Disclosure Officer, Administrative Resource Center, Bureau of the Public Debt, 200 Third Street, Room 211, Parkersburg, WV 26101-5312.

10. USSS: FOIA/PA Officer, FOIA/PA Branch, 950 H Street, NW., Suite 3000, Washington, DC 20001.

11. OTS: Manager, Dissemination Branch, 1700 G Street, NW., Washington, DC 20552.

12. FinCEN: Director, P.O. Box 39, Vienna, VA 22183-0039.

* * * * *

Treasury .005

System name:

Public Transportation Incentive Program Records.

System location:

* * * * *

(13) Financial Crimes Enforcement Network (FinCEN), P.O. Box 39, Vienna, VA 22183-0039.

* * * * *

System manager(s) and address:

* * * * *

(13) FinCEN: Director, P.O. Box 39, Vienna, VA 22183-0039.

* * * * *

Treasury .007

System name:

Personnel Security System.

System location:

* * * * *

(13) Financial Crimes Enforcement Network (FinCEN), P.O. Box 39, Vienna, VA 22183-0039.

* * * * *

System manager(s) and address:

* * * * *

(13) FinCEN: Director, P.O. Box 39, Vienna, VA 22183-0039.

* * * * *

Treasury .008

System name:

Treasury Emergency Management System.

System location:

* * * * *

(13) Financial Crimes Enforcement Network (FinCEN), P.O. Box 39, Vienna, VA 22183-0039.

* * * * *

System manager(s) and address:

* * * * *

(13) FinCEN: Director, P.O. Box 39, Vienna, VA 22183-0039.

* * * * *

Treasury .009

System name:

Treasury Financial Management Systems.

System location:

* * * * *

(13) Financial Crimes Enforcement Network (FinCEN), P.O. Box 39, Vienna, VA 22183-0039.

* * * * *

System manager(s) and address:

* * * * *

(13) FinCEN: Director, P.O. Box 39, Vienna, VA 22183-0039.

* * * * *

Treasury .010

System name:

Telephone Call Detail Records.

System location:

* * * * *

(13) Financial Crimes Enforcement Network (FinCEN), P.O. Box 39, Vienna, VA 22183-0039.

* * * * *

System manager(s) and address:

* * * * *

(13) FinCEN: Director, P.O. Box 39, Vienna, VA 22183-0039.

* * * * *

Treasury .011

System name:

Treasury Safety Incident Management Information System (SIMIS).

System location:

* * * * *

Description of change: Remove paragraph “(1)e. Financial Crimes Enforcement Network (FinCEN): Vienna, VA 22182.” and add the following in numerical order: “(13) Financial Crimes Enforcement Network (FinCEN), P.O. Box 39, Vienna, VA 22183-0039.”

* * * * *

System manager(s) and address:

* * * * *

Remove paragraph “1.(e) FinCEN: Safety and Occupational Health Manager, Vienna, VA 22182” and add the following in numerical order: “(13) FinCEN: Safety and Occupational Health Manager, P.O. Box 39, Vienna, VA 22183-0039.”

* * * * *

[FR Doc. 02-24185 Filed 9-23-02; 8:45 am]

BILLING CODE 4810-02-P